DEPARTMENT OF JUSTICE

Antitrust Division

Notice Pursuant to the National Cooperative Research and Production Act of 1993—HEI Industry Group

Notice is hereby given that, on January 28, 2019, pursuant to Section 6(a) of the National Cooperative Research and Production Act of 1993, 15 U.S.C. 4301 et seq. (“the Act”), HEI Industry Group (“HIG”) has filed written notifications simultaneously with the Attorney General and the Federal Trade Commission disclosing (1) the identities of the parties to the venture and (2) the nature and objectives of the venture. The notifications were filed for the purpose of invoking the Act's provisions limiting the recovery of antitrust plaintiffs to actual damages under specified circumstances.

Pursuant to Section 6(b) of the Act, the identity of the parties to the venture are: Chevron North America Exploration and Production Company, a division of Chevron U.S.A. Inc., Houston, TX; ConocoPhillips Company, Houston, TX; Exxon Mobil Corporation, Irving, TX; Halliburton Energy Services, Inc., Houston, TX; Noble Energy, Inc., Houston TX, SWEPI LP (SWEPI), Houston, TX; Schlumberger Technology Corporation, Houston, TX; BHP, Houston, TX; Statoil Gulf Services LLC, Houston, TX; and Schlumberger Limited, N.V., Houston, TX. The general area of HIG's planned activity is to commence a joint industry-government research initiative entitled HEI's Energy Research Program to (1) evaluate the existing health and exposure literature related to potential impacts from onshore oil and natural gas operations; and possibly (2) conduct a study to assess potential exposures from those operations. The industry sponsors have created the HEI Industry Group (HIG) to facilitate coordinated input to HEI. HEI is a nonprofit organization chartered in 1980 as an independent research institute to provide high-quality, impartial, and relevant science on the health effects of air pollution. The HEI-managed program represents a first-of-its-kind, comprehensive collaboration between the oil and gas industry and government to assess exposure to chemical stressors associated with onshore unconventional oil and natural gas operations. Part 1 of the research program will last for approximately one year and will evaluate the existing health and exposure literature as well as conduct workshops to inform the literature reviews and frame research needs. Part 2 (an exposure study) is being considered and will be informed by the results of the Part 1 literature review. If Part 2 goes forward, future studies will be considered as warranted by the Part 2 results.

Suzanne Morris,
Chief, Premerger and Division Statistics Unit, Antitrust Division.

[FR Doc. 2019-04009 Filed 3-5-19; 8:45 am]

BILLING CODE 4410-11-P